DEPARTMENT OF TRANSPORTATION

Federal Transit Administration

Limitation on Claims Against Proposed Public Transportation Projects—Austin Light Rail Phase 1 Project, Austin, Travis County, Texas, and 175 Park Ave Project, New York, New York

AGENCY: Federal Transit Administration (FTA), Department of Transportation (DOT).

ACTION: Notice.

SUMMARY: This notice announces final environmental actions taken by the Federal Transit Administration (FTA) regarding two projects: the Austin Light Rail Phase 1 Project in Austin, Texas; and 175 Park Avenue Project in New York, New York. The purpose of this notice is to publicly announce FTA's environmental decisions on the subject projects, and to activate the limitation on any claims that may challenge these final environmental actions.

DATES: A claim seeking judicial review of FTA actions announced herein for the listed public transportation projects will be barred unless the claim is filed on or before June 25, 2026.

FOR FURTHER INFORMATION CONTACT: Kathryn Loster, Assistant Chief Counsel, Office of Chief Counsel, (202) 360-2322, or Saadat Khan, Environmental Protection Specialist, Office of Environmental Policy and Programs, (202) 366-6385. FTA is located at 1200 New Jersey Avenue SE, Washington, DC 20590. Office hours are from 9:00 a.m. to 5:00 p.m., Monday through Friday, except Federal holidays.

SUPPLEMENTARY INFORMATION: Notice is hereby given that FTA has taken final agency actions subject to 23 U.S.C. 139(l) by issuing certain approvals for the public transportation projects listed below. The actions on the projects, as well as the laws under which such actions were taken, are described in the documentation issued in connection with the project to comply with the National Environmental Policy Act (NEPA) and in other documents in the FTA environmental project files for the project. Interested parties may contact either the project sponsor or the relevant FTA Regional Office for more information. Contact information for FTA's Regional Offices may be found at https://www.transit.dot.gov/about/regional-offices/regional-offices.

This notice applies to all FTA decisions on the listed projects as of the issuance date of this notice and all laws under which such actions were taken, including, but not limited to, NEPA (42 U.S.C. 4321-4347), Section 4(f) requirements (49 U.S.C. 303), Section 6(f) of the Land and Water Conservation Fund Act (54 U.S.C. 200305), Section 106 of the National Historic Preservation Act (54 U.S.C. 306108), the Endangered Species Act (16 U.S.C. 1531), the Clean Water Act (33 U.S.C. 1251), the Uniform Relocation and Real Property Acquisition Policies Act (42 U.S.C. 4601), and the Clean Air Act (42 U.S.C. 7401-7671q). This notice does not, however, alter or extend the limitation period for challenges of project decisions subject to previous notices published in the Federal Register. The project actions that are the subject of this notice follow:

1. Project name and location: Austin Light Rail Phase 1 Project (Austin Project), Austin, Travis County, Texas.

Project Sponsor: Austin Transit Partnership, Austin, Texas.

Project description: The Austin Project includes construction of approximately 9.8-miles of new light rail transit (LRT) beginning at the intersection of Guadalupe Street and 38th Street, continuing south through downtown Austin before crossing Lady Bird Lake on a new dedicated LRT bridge. South of Lady Bird Lake, the corridor splits into two branches with one continuing further south along South Congress Avenue to Oltorf Street and the other extending east along East Riverside Drive, ending just west of State Highway 71. The Austin Project also includes the construction of 15 new stations, an operations and maintenance facility, one maintenance of way shop, and three park and ride facilities.

Final agency action: Section 4(f) use determination, dated January 7, 2026; Section 6(f) use determination, dated January 7, 2026; Section 106 Programmatic Agreement, dated January 7, 2026; and Austin Light Rail Phase 1 Combined Final Environmental Impact Statement (FEIS)/Record of Decision (ROD), dated January 16, 2026.

Supporting documentation: Austin Light Rail Phase 1 Combined FEIS/ROD, dated January 16, 2026, and Austin Light Rail Phase 1 Draft Environmental Impact Statement (DEIS), dated January 10, 2025. The Combined FEIS/ROD, DEIS, and supporting documents can be viewed and downloaded from: https://www.atptx.org/milestones/atp-releases-final-environmental-impact-statement-record-of-decision.

2. Project name and location: 175 Park Avenue Project (New York Project), New York, New York.

Project sponsor: Commodore Owner LLC.

Project description: The New York Project would redevelop 175 Park Avenue, located adjacent to Grand Central Terminal in New York, New York. The New York Project includes the leasehold acquisition of the site, demolition of the existing hotel, and construction of a new, mixed-use office and hotel building with retail, public space, and large-scale transit and public concourse improvements.

Final agency action: Section 106 No Adverse Effect determination, dated October 16, 2025; Section 4(f) no use determination, dated October 16, 2025; 175 Park Avenue Project Finding of No Significant Impact (FONSI), dated January 9, 2026.

Supporting documentation: 175 Park Avenue Environmental Assessment (EA), dated October 16, 2025. The EA, and associated documents can be viewed and downloaded from: https://175parkproject.nyc.

(Authority: 23 U.S.C. 139(l)(1).)

Megan Blum,
Deputy Associate Administrator for Planning and Environment.

[FR Doc. 2026-01367 Filed 1-23-26; 8:45 am]

BILLING CODE 4910-57-P